DEPARTMENT OF TRANSPORTATION

Federal Aviation Administration

14 CFR Part 39

[Docket No. FAA-2022-1298; Project Identifier MCAI-2022-00437-T]

RIN 2120-AA64

Airworthiness Directives; BAE Systems (Operations) Limited Airplanes

AGENCY: Federal Aviation Administration (FAA), DOT.

ACTION: Notice of proposed rulemaking (NPRM).

SUMMARY: The FAA proposes to supersede Airworthiness Directives (ADs) 2005-15-11, 2016-07-09, and 2018-19-24, which apply to all BAE Systems (Operations) Limited Model 4101 airplanes. AD 2005-15-11 requires repetitive detailed and specialized inspections to detect fatigue damage in the fuselage, replacement of certain bolt assemblies, and corrective actions if necessary. AD 2016-07-09 requires a revision of the maintenance or inspection program, as applicable. AD 2018-19-24 requires a one-time detailed inspection of a certain fuselage frame and repair, if necessary, and a revision of the maintenance or inspection program, as applicable, to incorporate new or revised maintenance instructions and airworthiness limitations. Since the FAA issued those ADs, the FAA has determined that new or more restrictive airworthiness limitations are necessary. This proposed AD would continue to require the actions in AD 2016-07-09 and 2018-19-24 and require revising the existing maintenance or inspection program, as applicable, to incorporate new or more restrictive airworthiness limitations. The FAA is proposing this AD to address the unsafe condition on these products.

DATES: The FAA must receive comments on this NPRM by December 5, 2022.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2022-1298; or in person at Docket Operations between 9 a.m. and 5 p.m., Monday through Friday, except Federal holidays. The AD docket contains this NPRM, the mandatory continuing airworthiness information (MCAI), any comments received, and other information. The street address for Docket Operations is listed above.

Material Incorporated by Reference:

• For service information identified in this NPRM, contact BAE Systems (Operations) Limited, Customer Information Department, Prestwick International Airport, Ayrshire, KA9 2RW, Scotland, United Kingdom; telephone +44 1292 675207; fax +44 1292 675704; email RApublications@baesystems.com; website baesystems.com/Businesses/RegionalAircraft/index.htm.

• You may view this service information at the FAA, Airworthiness Products Section, Operational Safety Branch, 2200 South 216th St., Des Moines, WA. For information on the availability of this material at the FAA, call 206-231-3195.

FOR FURTHER INFORMATION CONTACT: Todd Thompson, Aerospace Engineer, Large Aircraft Section, FAA, International Validation Branch, 2200 South 216th St., Des Moines, WA 98198; telephone 206-231-3228; email todd.thompson@faa.gov.

SUPPLEMENTARY INFORMATION:

Comments Invited

The FAA invites you to send any written relevant data, views, or arguments about this proposal. Send your comments to an address listed under ADDRESSES. Include “Docket No. FAA-2022-1298; Project Identifier MCAI-2022-00437-T” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Todd Thompson, Aerospace Engineer, Large Aircraft Section, FAA, International Validation Branch, 2200 South 216th St., Des Moines, WA 98198; telephone 206-231-3228; email todd.thompson@faa.gov. Any commentary that the FAA receives that is not specifically designated as CBI will be placed in the public docket for this rulemaking.

Background

The FAA issued AD 2005-15-11, Amendment 39-14200 (70 FR 43025, July 26, 2005) (AD 2005-15-11) for all BAE Systems (Operations) Limited Model 4101 airplanes. AD 2005-15-11 was prompted by MCAI originated by the Civil Aviation Authority (CAA), which is the aviation authority for the United Kingdom (U.K.) (U.K. CAA). The U.K. CAA issued AD 2005-15-11 to correct an unsafe condition identified by a review of primary airframe fatigue test results and a Maintenance Steering Group 3 (MSG-3) analysis, which found a need to issue an AD to detect and correct fatigue damage of the fuselage, door, engine nacelle, empennage, and wing structures, which could result in reduced structural integrity of the airplane.

AD 2005-15-11 requires repetitive detailed and specialized inspections to detect fatigue damage in the fuselage, replacement of certain bolt assemblies, and corrective actions if necessary. The FAA issued AD 2005-15-11 to address fatigue damage of the fuselage, door, engine nacelle, empennage, and wing structures, which could result in reduced structural integrity of the airplane.

The FAA issued AD 2016-07-09, Amendment 39-18454 (81 FR 21263, April 11, 2016) (AD 2016-07-09), for all BAE Systems (Operations) Limited Model 4101 airplanes. AD 2016-07-09 was prompted by MCAI originated by the European Aviation Safety Agency (EASA), which is the Technical Agent for the Member States of the European Union. EASA issued AD 2014-0043, dated February 21, 2014 (EASA AD 2014-0043), to correct an unsafe condition identified as failure of certain structurally significant items, including the main landing gear and nose landing gear, and fuel vapor ignition sources.

AD 2016-07-09 requires a revision of the maintenance or inspection program. The FAA issued AD 2016-07-09 to address failure of certain structurally significant items, including the main landing gear and nose landing gear, which could result in reduced structural integrity of the airplane; and to prevent fuel vapor ignition sources, which could result in a fuel tank explosion and consequent loss of the airplane.

The FAA issued AD 2018-19-24, Amendment 39-19425 (83 FR 49786, October 3, 2018) (AD 2018-19-24), for all BAE Systems (Operations) Limited Model 4101 airplanes. AD 2018-19-24 was prompted by MCAI originated by EASA. EASA issued AD 2017-0187, September 22, 2017 (EASA AD 2017-0187), to correct an unsafe condition identified as cracking in fuselage frame 90 and fatigue damage of various airplane structures.

AD 2018-19-24 requires a one-time detailed inspection of a certain fuselage frame and repair, if necessary, and a revision of the maintenance or inspection program, as applicable, to incorporate new or revised maintenance instructions and airworthiness limitations. The FAA issued AD 2018-19-24 to address cracking in fuselage frame 90, which could cause it to fail and thereby compromise the structural integrity of the aircraft pressure hull. The FAA also issued AD 2018-19-24 to address fatigue damage of various airplane structures, which could result in reduced structural integrity of the airplane. AD 2018-19-24 specifies that accomplishing the revision required by that AD terminates all requirements of AD 2005-15-11.

Actions Since ADs 2015-15-11, 2016-07-09, and 2018-19-24 Were Issued

Since the FAA issued ADs 2015-15-11, 2016-07-09, and 2018-19-24, the U.K. CAA superseded EASA ADs 2014-0043 and 2017-0187, and issued U.K. CAA AD G-2022-0006, dated March 30, 2022 (U.K. CAA AD G-2022-0006; also referred to as the MCAI). U.K. CAA AD G-2022-0006 states that the repetitive inspection requirements for Structural Significant Items (SSI) 53-10-029 were not addressed in EASA AD 2017-0187, and additional SSI inspections are necessary (inspections for cracking of Hi-Shear (now LISL)) collars. U.K. CAA AD G-2022-0006 also states that failure to comply with new or more restrictive actions could result in an unsafe condition. The FAA is issuing this AD to address fatigue damage of various airplane structures and failure of certain structurally significant items, which could result in reduced structural integrity of the airplane. The FAA is also issuing this AD to address fuel vapor ignition sources, which could result in a fuel tank explosion and consequent loss of the airplane. You may examine U.K. CAA AD G-2022-0006 in the AD docket at regulations.gov under Docket No. FAA-2022-1298.

Related Service Information Under 1 CFR Part 51

The FAA reviewed Chapter 05 of BAE Systems (Operations) Limited J41Aircraft Maintenance Manual (AMM), Revision 44, dated June 15, 2021, for effectivity group 403; and BAE Systems (Operations) Limited J41 AMM, Revision 44, dated June 15, 2021, for effectivity group 408. This service information specifies airworthiness limitations for fuel tank systems and certification maintenance requirements. These documents are distinct since they apply to different airplanes.

This proposed AD would also require:

• Subjects 05-10-10, “Airworthiness Limitations”; 05-10-20, “Certification Maintenance Requirements”; and 05-10-30, “Critical Design Configuration Control Limitations (CDCCL)—Fuel System”; of Chapter 05, “Airworthiness Limitations,” of the BAE Systems (Operations) Limited J41 AMM, Revision 38, dated September 15, 2013, which the Director of the Federal Register approved for incorporation by reference as of May 16, 2016 (81 FR 21263, April 11, 2016);

• BAE Systems (Operations) Limited Service Bulletin J41-51-001, Revision 4, dated July 11, 2017, which the Director of the Federal Register approved for incorporation by reference as of November 7, 2018 (83 FR 49786, October 3, 2018); and

• BAE Systems (Operations) Limited Alert Service Bulletin J41-A53-058, dated December 6, 2016, which the Director of the Federal Register approved for incorporation by reference as of November 7, 2018 (83 FR 49786, October 3, 2018).

This service information is reasonably available because the interested parties have access to it through their normal course of business or by the means identified in the ADDRESSES section.

FAA's Determination

This product has been approved by the aviation authority of another country, and is approved for operation in the United States. Pursuant to the FAA's bilateral agreement with the State of Design Authority, it has notified the FAA of the unsafe condition described in the MCAI and service information described above. The FAA is issuing this NPRM after determining that the unsafe condition described previously is likely to exist or develop on other products of the same type design.

Proposed Requirements of This NPRM

This proposed AD would retain none of the requirements of AD 2005-15-11; certain requirements of AD 2016-07-09; and all requirements of AD 2018-19-24. This proposed AD would require revising the existing maintenance or inspection program, as applicable, to incorporate new or more restrictive airworthiness limitations.

This proposed AD would require revisions to certain operator maintenance documents to include new actions (e.g., inspections) and Critical Design Configuration Control Limitations (CDCCLs). Compliance with these actions and CDCCLs is required by 14 CFR 91.403(c). For airplanes that have been previously modified, altered, or repaired in the areas addressed by this proposed AD, the operator may not be able to accomplish the actions described in the revisions. In this situation, to comply with 14 CFR 91.403(c), the operator must request approval for an alternative method of compliance according to paragraph (o)(1) of this proposed AD.

Costs of Compliance

The FAA estimates that this AD, if adopted as proposed, would affect 10 airplanes of U.S. registry. The FAA estimates the following costs to comply with this proposed AD:

The FAA estimates the total cost per operator for the retained actions from AD 2016-07-09 to be $7,650 (90 work-hours × $85 per work-hour).

The FAA estimates the total cost per operator for the retained maintenance or inspection program revision from AD 2018-19-24 to be $7,650 (90 work-hours × $85 per work-hour)

The FAA has determined that revising the maintenance or inspection program takes an average of 90 work-hours per operator, although the agency recognizes that this number may vary from operator to operator. Since operators incorporate maintenance or inspection program changes for their affected fleet(s), the FAA has determined that a per-operator estimate is more accurate than a per-airplane estimate. Therefore, the agency estimates the average total cost per operator to be $7,650 (90 work-hours × $85 per work-hour).

The FAA estimates the total cost per operator for the new proposed actions to be $7,650 (90 work-hours × $85 per work-hour).

Estimated Costs for Required Actions
Action | Labor cost | Parts cost | Cost per product | Cost on U.S. operators
Inspection (Retained actions from AD 2018-19-24) | 2 work-hours × $85 per hour = $170 | $0 | $170 | $1,700

The FAA has received no definitive data on which to base the cost estimates for the on-condition actions specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive AD 2005-15-11, Amendment 39-14200 (70 FR 43025, July 26, 2005); AD 2016-07-09, Amendment 39-18454 (81 FR 21263, April 11, 2016); and AD 2018-19-24, Amendment 39-19425 (83 FR 49786, October 3, 2018); and

b. Adding the following new airworthiness directive:

BAE Systems (Operations) Limited: Docket No. FAA-2022-1298; Project Identifier MCAI-2022-00437-T.

(a) Comments Due Date

The FAA must receive comments on this airworthiness directive (AD) by December 5, 2022.

(b) Affected ADs

(1) This AD replaces AD 2005-15-11, Amendment 39-14200 (70 FR 43025, July 26, 2005) (AD 2005-15-11).

(2) This AD replaces AD 2016-07-09, Amendment 39-18454 (81 FR 21263, April 11, 2016) (AD 2016-07-09).

(3) This AD replaces AD 2018-19-24, Amendment 39-19425 (83 FR 49786, October 3, 2018) (AD 2018-19-24).

(c) Applicability

This AD applies to all BAE Systems (Operations) Limited Model 4101 airplanes, certificated in any category.

(d) Subject

Air Transport Association (ATA) of America Code 05, Time Limits/Maintenance Checks.

(e) Reason

This AD was prompted by a determination that new or more restrictive airworthiness limitations are necessary. The FAA is issuing this AD to address fatigue damage of various airplane structures and failure of certain structurally significant items, which could result in reduced structural integrity of the airplane. The FAA is also issuing this AD to address fuel vapor ignition sources, which could result in a fuel tank explosion and consequent loss of the airplane.

(f) Compliance

Comply with this AD within the compliance times specified, unless already done.

(g) Retained Revision of the Maintenance or Inspection Program (From AD 2016-07-09), With No Changes

This paragraph restates the requirements of paragraph (i) of AD 2016-07-09, with no changes. Within 90 days after May 16, 2016 (the effective date of AD 2016-07-09): Revise the maintenance or inspection program, as applicable, by incorporating Subjects 05-10-10, “Airworthiness Limitations”; 05-10-20, “Certification Maintenance Requirements”; and 05-10-30, “Critical Design Configuration Control Limitations (CDCCL)—Fuel System”; of Chapter 05, “Airworthiness Limitations,” of the BAE Systems (Operations) Limited J41 AMM, Revision 38, dated September 15, 2013. The initial compliance times for the tasks are at the applicable times specified in paragraphs (g)(1) through (3) of this AD. Accomplishing the revision of the existing maintenance or inspection program required by paragraph (m) of this AD terminates the requirements of this paragraph.

(1) For replacement tasks of life limited parts specified in Subject 05-10-10, “Airworthiness Limitations,” of Chapter 05, “Airworthiness Limitations,” of the BAE Systems (Operations) Limited J41 AMM, Revision 38, dated September 15, 2013: Prior to the applicable flight cycles (landings) or flight hours (flying hours) on the part specified in the “Mandatory Life Limits” column in Subject 05-10-10, or within 90 days after May 16, 2016 (the effective date of AD 2016-07-09), whichever occurs later.

(2) For structurally significant item tasks specified in Subject 05-10-10, “Airworthiness Limitations,” of Chapter 05, “Airworthiness Limitations,” of the BAE Systems (Operations) Limited J41 AMM, Revision 38, dated September 15, 2013: Prior to the accumulation of the applicable flight cycles specified in the “Initial Inspection” column in Subject 05-10-10, or within 90 days after May 16, 2016 (the effective date of AD 2016-07-09), whichever occurs later.

(3) For certification maintenance requirements tasks specified in Subject 05-10-20, “Certification Maintenance Requirements,” of Chapter 05, “Airworthiness Limitations,” of the BAE Systems (Operations) Limited J41 AMM, Revision 38, dated September 15, 2013: Prior to the accumulation of the applicable flight hours specified in the “Time Between Checks” column in Subject 05-10-20, or within 90 days after May 16, 2016 (the effective date of AD 2016-07-09), whichever occurs later; except for tasks that specify “first flight of the day” in the “Time Between Checks” column in Subject 05-10-20, the initial compliance time is the first flight of the next day after doing the revision required by paragraph (g) of AD 2016-07-09, or within 90 days after May 16, 2016, whichever occurs later.

(h) Retained Restrictions on Alternative Actions, Intervals, and/or (CDCCLs), With No Changes

This paragraph restates the requirements of paragraph (j) of AD 2016-07-09, with no changes. Except as required by paragraph (m) of this AD, after the maintenance or inspection program, as applicable, has been revised as required by paragraph (g) of this AD, no alternative actions (e.g., inspections), intervals, and/or CDCCLs may be used unless the actions, intervals, and/or CDCCLs are approved as an alternative method of compliance (AMOC) in accordance with the procedures specified in paragraph (o)(1) of this AD.

(i) Retained Inspection, With No Changes

This paragraph restates the requirements of paragraph (g) of AD 2018-19-24, with no changes. At the compliance times specified in paragraphs (i)(1) and (2) of this AD, as applicable: Do a detailed inspection of fuselage frame 90 for cracking or fatigue damage, in accordance with the Accomplishment Instructions of BAE Systems (Operations) Limited Alert Service Bulletin J41-A53-058, dated December 6, 2016. If any cracking or fatigue damage is found: Before further flight, repair using a method approved by the Manager, International Section, Transport Standards Branch, FAA; or the European Aviation Safety Agency (EASA); or BAE Systems (Operations) Limited's EASA Design Organization Approval (DOA). Accomplishing the revision of the existing maintenance or inspection program required by paragraph (m) of this AD terminates the requirements of this paragraph.

(1) For airplanes with 6,300 flight cycles or fewer since Structural Significant Items (SSI) 53-10-029 (Maintenance Planning Document (MPD) 531029-DVl-10010-1) was last accomplished: Within 6,600 flight cycles after the last accomplishment of SSI 53-10-029 (MPD 531029-DVl-10010-1), or within 6 months after November 7, 2018 (the effective date of AD 2018-19-24), whichever is later.

(2) For airplanes with more than 6,300 flight cycles since SSI 53-10-029 (MPD 531029-DVl-10010-1) was last accomplished: Within 300 flight cycles or 4.5 months, whichever is earlier, since the last accomplishment of SSI 53-10-029 (MPD 531029-DVl-10010-1), or within 6 months after November 7, 2018 (the effective date of AD 2018-19-24), whichever is later.

(j) Retained Revision of Maintenance or Inspection Program (From AD 2018-19-24), With No Changes

This paragraph restates the requirements of paragraph (h) of AD 2018-19-24, with no changes. Within 90 days after November 7, 2018 (the effective date of AD 2018-19-24): Revise the maintenance or inspection program, as applicable, by incorporating the maintenance tasks and associated thresholds and intervals described in, and in accordance with, the Accomplishment Instructions of BAE Systems (Operations) Limited Service Bulletin J41-51-001, Revision 4, dated July 11, 2017. The initial compliance times for new or revised tasks are at the applicable times specified in BAE Systems (Operations) Limited Service Bulletin J41-51-001, Revision 4, dated July 11, 2017, or within 6 months after November 7, 2018, whichever is later. Accomplishing the revision of the existing maintenance or inspection program required by paragraph (m) of this AD terminates the requirements of this paragraph.

(k) Retained No Alternative Actions and Intervals, With No Changes

This paragraph restates the requirements of paragraph (i) of AD 2018-19-24, with no changes. Except as required by paragraph (m) of this AD: After the maintenance or inspection program has been revised as required by paragraph (j) of this AD, no alternative actions (e.g., inspections) or intervals may be used unless the actions or intervals are approved as an AMOC in accordance with the procedures specified in paragraph (o)(1) of this AD.

(l) Retained No Reporting Requirement, With No Changes

This paragraph restates the requirements of paragraph (k) of AD 2018-19-24, with no changes. Although the Accomplishment Instructions of BAE Systems (Operations) Limited Alert Service Bulletin J41-A53-058, dated December 6, 2016, specify to submit certain information to the manufacturer, this AD does not include that requirement.

(m) New Revision of the Existing Maintenance or Inspection Program

Within 90 days after the effective date of this AD: Revise the existing maintenance or inspection program, as applicable, by incorporating Subjects 05-10-10, “Airworthiness Limitations”; 05-10-20, “Certification Maintenance Requirements”; and 05-10-30, “Critical Design Configuration Control Limitations (CDCCL)—Fuel System”; of Chapter 05, “Airworthiness Limitations,” of the BAE Systems (Operations) Limited J41 AMM, Revision 44, dated June 15, 2021, for effectivity group 403; or BAE Systems (Operations) Limited J41 AMM, Revision 44, dated June 15, 2021, for effectivity group 408; as applicable. The initial compliance times for the tasks are at the applicable times specified in paragraphs (m)(1) through (3) of this AD. Accomplishing the revision of the existing maintenance or inspection program required by this paragraph terminates the actions required by paragraphs (g), (i) and (j) of this AD.

(1) For replacement tasks of life limited parts specified in Subject 05-10-10, “Airworthiness Limitations,” of Chapter 05, “Airworthiness Limitations,” of the BAE Systems (Operations) Limited J41 AMM, Revision 44, dated June 15, 2021, for effectivity group 403; or BAE Systems (Operations) Limited J41 AMM, Revision 44, dated June 15, 2021, for effectivity group 408; as applicable: Prior to the applicable flight cycles (landings) or flight hours (flying hours) on the part specified in the “Mandatory Life Limits” column in Subject 05-10-10, or within 90 days after the effective date of this AD, whichever occurs later.

(2) For structurally significant item tasks specified in Subject 05-10-10, “Airworthiness Limitations,” of Chapter 05, “Airworthiness Limitations,” of the BAE Systems (Operations) Limited J41 AMM, Revision 44, dated June 15, 2021, for effectivity group 403; or BAE Systems (Operations) Limited J41 AMM, Revision 44, dated June 15, 2021. for effectivity group 408; as applicable: Prior to the accumulation of the applicable flight cycles specified in the “Initial Inspection” column in Subject 05-10-10, or within 90 days after the effective date of this AD, whichever occurs later.

(3) For certification maintenance requirements tasks specified in Subject 05-10-20, “Certification Maintenance Requirements,” of Chapter 05, “Airworthiness Limitations,” of the BAE Systems (Operations) Limited J41 AMM, Revision 44, dated June 15, 2021, for effectivity group 403; or BAE Systems (Operations) Limited J41 AMM, Revision 44, dated June 15, 2021, for effectivity group 408; as applicable: Prior to the accumulation of the applicable flight hours specified in the “Time Between Checks” column in Subject 05-10-20, or within 90 days after the effective date of this AD, whichever occurs later; except for tasks that specify “first flight of the day” in the “Time Between Checks” column in Subject 05-10-20, the initial compliance time is the first flight of the next day after accomplishing the revision required by paragraph (m) of this AD, or within 90 days after the effective date of this AD, whichever occurs later.

(n) New No Alternative Actions, Intervals, or Critical Design Configuration Control Limitations (CDCCLs)

After the existing maintenance or inspection program has been revised as required by paragraph (m) of this AD, no alternative actions (e.g., inspections), intervals, or CDCCLs may be used unless the actions, intervals, and CDCCLs are approved as an AMOC in accordance with the procedures specified in paragraph (o)(1) of this AD.

(o) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (p)(2) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or the United Kingdom Civil Aviation Authority (U.K. CAA); or BAE Systems (Operations) Limited's U.K. CAA Design Organization Approval (DOA). If approved by the DOA, the approval must include the DOA-authorized signature.

(p) Additional Information

(1) Refer to U.K. CAA AD G-2022-0006, dated March 30, 2022, for related information. This U.K. CAA AD may be found in the AD docket at regulations.gov under Docket No. FAA-2022-1298.

(2) For more information about this AD, contact Todd Thompson, Aerospace Engineer, Large Aircraft Section, FAA, International Validation Branch, 2200 South 216th St., Des Moines, WA 98198; telephone 206-231-3228; email todd.thompson@faa.gov.

(q) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR.

(i) Chapter 05 of BAE Systems (Operations) Limited J41 Aircraft Maintenance Manual (AMM), Revision 44, dated June 15, 2021, for effectivity group 403;

(ii) Chapter 05 of BAE Systems (Operations) Limited J41 AMM, Revision 44, dated June 15, 2021, for effectivity group 408.

(4) The following service information was approved for IBR on November 7, 2018 (83 FR 49786, October 3, 2018).

(i) BAE Systems (Operations) Limited Alert Service Bulletin J41-A53-058, dated December 6, 2016.

(ii) BAE Systems (Operations) Limited Service Bulletin J41-51-001, Revision 4, dated July 11, 2017.

(5) The following service information was approved for IBR on May 16, 2016 (81 FR 21263, April 11, 2016).

(i) Chapter 05, “Airworthiness Limitations,” of the BAE Systems (Operations) Limited J41 Aircraft Maintenance Manual (AMM), Revision 38, dated September 15, 2013. Page 1 of the “Publications Transmittal” is the only page that shows the revision level of this document.

(A) Subject 05-10-10, “Airworthiness Limitations.”

(B) Subject 05-10-20, “Certification Maintenance Requirements.”

(C) Subject 05-10-30, “Critical Design Configuration Control Limitations (CDCCL)—Fuel System.”

(ii) [Reserved]

(6) For service information identified in this AD, contact BAE Systems (Operations) Limited, Customer Information Department, Prestwick International Airport, Ayrshire, KA9 2RW, Scotland, United Kingdom; telephone +44 1292 675207; fax +44 1292 675704; email RApublications@baesystems.com; website baesystems.com/Businesses/RegionalAircraft/index.htm.

(7) You may view this service information at the FAA, Airworthiness Products Section, Operational Safety Branch, 2200 South 216th St., Des Moines, WA. For information on the availability of this material at the FAA, call 206-231-3195.

(8) You may view this service information that is incorporated by reference at the National Archives and Records Administration (NARA). For information on the availability of this material at NARA, email fr.inspection@nara.gov, or go to: www.archives.gov/federal-register/cfr/ibr-locations.html.

Issued on October 6, 2022.
Christina Underwood,
Acting Director, Compliance & Airworthiness Division, Aircraft Certification Service.

[FR Doc. 2022-22202 Filed 10-20-22; 8:45 am]

BILLING CODE 4910-13-P